DEPARTMENT OF STATE

[Public Notice 8657]

30-Day Notice of Proposed Information Collection: Online Application for Nonimmigrant Visa

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to April 14, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sydney Taylor, who may be reached at PRA_BurdenComments@state.gov.

SUPPLEMENTARY INFORMATION: • Title of Information Collection: Online Application for Nonimmigrant Visa.

• OMB Control Number: 1405-0182.

• Type of Request: Extension of a currently approved collection.

• Originating Office: CA/VO/L/R.

• Form Number: DS-160.

• Respondents: All Nonimmigrant Visa Applicants.

• Estimated Number of Respondents: 11,100,276.

• Estimated Number of Responses: 11,100,276.

• Average Time per Response: 75 minutes.

• Total Estimated Burden Time: 13,875,345.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Online Application for Nonimmigrant Visa (DS-160) will be used to collect biographical information from individuals seeking a nonimmigrant visa. The consular officer uses the information collected to determine the applicant's eligibility for a visa. This collection combines questions from current information collections DS-156 Nonimmigrant Visa Application, DS-156E Nonimmigrant Treaty Trader Investor Application (for certain qualifiers), DS-156K Nonimmigrant Fiancé Application, DS-157 Nonimmigrant Supplemental Visa Application, and DS-158 Contact Information and Work History Application, with a new question asking whether the applicant is a permanent resident of a country other than country or place of nationality and, if so, to indicate that country.

Methodology:

The DS-160 will be submitted electronically to the Department via the internet. The applicant will be instructed to print a confirmation page containing a bar coded record locator, which will be scanned at the time of processing. Applicants who submit the electronic application will no longer submit paper-based applications to the Department.

Dated: March 7, 2014.
Edward Ramotowski,
Deputy Assistant Secretary, Bureau of Consular Affairs, Department of State.

[FR Doc. 2014-05689 Filed 3-13-14; 8:45 am]

BILLING CODE 4710-06-P